NUCLEAR REGULATORY COMMISSION

[Dockets No.: 070-364, 70-3035]

Consideration of License Amendment Requests for the Babcock and Wilcox Facility and Shallow Land Disposal Area in Parks Township, PA, and Opportunity for a Hearing

AGENCY: Nuclear Regulatory Commission.

ACTION: Notice of consideration of license amendment requests for the Babcock and Wilcox Facility and Shallow Land Disposal Area in Parks Township, Pennsylvania, and opportunity for a hearing.

The U.S. Nuclear Regulatory Commission (NRC) is considering issuance of license amendments to Special Nuclear Material License No. SNM-414 (SNM-414), and Special Nuclear License No. SNM-2001 (SNM-2001), both issued to Babcock and Wilcox Company, Pennsylvania Nuclear Service Operation (the license), to authorize amending condition 9, “Authorized Places of Use,” of its SNM-414 License at its facility in Parks Township, Pennsylvania and of its SNM-2001 License at its Shallow Land Disposal Area (SLDA).

The licensee has been decommissioning the site in accordance with the conditions discussed in SNM-414. On April 4, 2001, the licensee submitted a license amendment request for change of boundaries by adjusting and transferring two portions of the facility under SNM-414 to a contiguous site under NRC license, SNM-2001, Shallow Land Disposal Area. Both sites are on the NRC's Site Decommissioning Management Plan and the SLDA is being assessed by the U.S. Army Corps of Engineers for possible remediation under the Formerly Utilized Sites Remedial Action Program.

The NRC hereby provides notice that this is a proceeding on request for amendment of a license falling within the scope of Subpart L “Informal Hearing Procedures for Adjudication in Materials Licensing Proceedings,” of NRC's rules and practice for domestic licensing proceedings in 10 CFR Part 2. Pursuant to § 2.1205(a), any person whose interest may be affected by this proceeding may file a request for a hearing in accordance with Section 2.1205(c). A request for a hearing must be filed within thirty (30) days of the date of publication of this Federal Register notice.

The request for a hearing must be filed with the Office of the Secretary either:

1. By delivery to the Docketing and Service Branch of the Secretary at One White Flint North, 11555 Rockville Pike, Rockville, MD 20852-2738; or

2. By mail or telegram addressed to the Secretary, U.S. Nuclear Regulatory Commission, Washington, DC 20555. Attention: Docketing and Service Branch.

In addition to meeting other applicable requirements of 10 CFR Part 2 of the NRC's regulations, a request for a hearing filed by a person other than an applicant must describe in detail:

1. The interest of the requester in the proceeding;

2. How that interest may be affected by the results of the proceeding, including the reasons why the requester should be permitted a hearing, with particular reference to the factors set out in § 2.1205(g);

3. The requester's area of concern about the licensing activity that is the subject matter of the proceeding; and

4. The circumstances establishing that the request for a hearing is timely in accordance with § 2.1205(c).

In accordance with 10 CFR 2.1205(e), each request for a hearing must also be served by delivering it personally or by mail, to:

1. The applicant, Babcock and Wilcox Company, R.D. 1, Box 355, Vandergrift, PA 15690, Attention Mr. Richard M. Bartosik; and

2. The NRC staff, by delivery to the Executive Director for Operations, One White Flint North, 11555 Rockville Pike, Rockville, MD 20852, or by mail to the Executive Director for Operations, U.S. Nuclear Regulatory Commission, Washington, DC 20555.

For further details with respect to this action, the licensee request and plans are available for inspection at the NRC's Public Document Room, One White Flint North, 11555 Rockville Pike, Rockville, MD, 20852.

Dated at Rockville, Maryland, this 14th Day of May, 2001.
For the Nuclear Regulatory Commission.
Robert A. Nelson,
Acting Chief, Decommissioning Branch, Division of Waste Management, Office of Nuclear Material Safety and Safeguards.

[FR Doc. 01-12834 Filed 5-21-01; 8:45 am]

BILLING CODE 7590-01-P